DEPARTMENT OF EDUCATION

Applications for New Awards; Promise Neighborhoods Program—Planning Grant Competition

AGENCY: Office of Innovation and Improvement, Department of Education.

ACTION: Notice.

Overview Information

Promise Neighborhoods Program—Planning Grant Competition Notice inviting applications for new awards for fiscal year (FY) 2011.

Catalog of Federal Domestic Assistance (CFDA) Number: 84.215P (Planning grants).

Dates:

Applications Available: July 6, 2011.

Deadline for Notice of Intent to Apply: July 22, 2011.

Date of Pre-Application Webinars: Planning Applications: July 14, 2011 and August 2, 2011. Implementation Applications: July 19, 2011 and July 28, 2011.

Deadline for Transmittal of Applications: September 6, 2011.

Deadline for Intergovernmental Review: November 3, 2011.

Full Text of Announcement

I. Funding Opportunity Description

Purpose of Program: The Promise Neighborhoods program is carried out under the legislative authority of the Fund for Improvement of Education (FIE), title V, part D, subpart 1, sections 5411 through 5413 of the Elementary and Secondary Education Act of 1965 (ESEA), as amended (20 U.S.C. 7243-7243b). FIE supports nationally significant programs to improve the quality of elementary and secondary education at the State and local levels and to help all children meet challenging State academic content and student academic achievement standards.

The purpose of the Promise Neighborhoods program is to significantly improve the educational and developmental outcomes of children and youth in our most distressed communities, and to transform those communities by—

(1) Identifying and increasing the capacity of eligible organizations (as defined in this notice) that are focused on achieving results for children and youth throughout an entire neighborhood;

(2) Building a complete continuum of cradle-through-college-to-career solutions (continuum of solutions) (as defined in this notice) of both educational programs and family and community supports (both as defined in this notice), with great schools at the center. All solutions in the continuum of solutions must be accessible to children with disabilities (CWD)(as defined in this notice) and English learners (ELs) (as defined in this notice);

(3) Integrating programs and breaking down agency “silos” so that solutions are implemented effectively and efficiently across agencies;

(4) Developing the local infrastructure of systems and resources needed to sustain and scale up proven, effective solutions across the broader region beyond the initial neighborhood; and

(5) Learning about the overall impact of the Promise Neighborhoods program and about the relationship between particular strategies in Promise Neighborhoods and student outcomes, including through a rigorous evaluation of the program.

Background: The vision of this program is that all children and youth growing up in Promise Neighborhoods have access to great schools and strong systems of family and community support that will prepare them to attain an excellent education and successfully transition to college and a career.

A Promise Neighborhood is both a place and a strategy. A place eligible to become a Promise Neighborhood is a geographic area that is distressed, often facing inadequate access to high-quality early learning programs and services, with struggling schools, low high school and college graduation rates, high rates of unemployment, high rates of crime, and indicators of poor health. These conditions contribute to and intensify the negative outcomes associated with children and youth living in poverty. Children who are from low-income families and grow up in neighborhoods of concentrated poverty face educational and life challenges above and beyond the challenges faced by children who are from low-income families who grow up in neighborhoods without a high concentration of poverty. A Federal evaluation of the reading and mathematics outcomes of elementary students in 71 schools in 18 districts and 7 States found that even when controlling for individual student poverty, there is a significant negative association between school-level poverty and student achievement.¹ The evaluation found that students have lower academic outcomes when a higher percentage of their same-school peers qualify for free and reduced-priced lunch (FRPL) compared to when a lower percentage of their same-school peers qualify for FRPL. The compounding effects of neighborhood poverty continue later in life: Another study found that, for children with similar levels of family income, growing up in a neighborhood where the number of families in poverty was between 20 and 30 percent increased the chance of downward economic mobility—moving down the income ladder relative to their parents—by more than 50 percent compared with children who grew up in neighborhoods with under 10 percent of families in poverty.²

¹ Westat and Policy Studies Associate. The longitudinal evaluation of school change and performance (LESCP) in title I schools. Prepared for the U.S. Department of Education. Available January 2010 online at http://www.policystudies.com/studies/school/lescp_vol2.pdf.

² Sharkey, Patrick. “Neighborhoods and the Black-White Mobility Gap.” Economic Mobility Project: An Initiative of The Pew Charitable Trusts, 2009.

A Promise Neighborhood is also a strategy for addressing the issues in distressed communities. Promise Neighborhoods are led by organizations that work to ensure that all children and youth in the target geographic area have access to the continuum of solutions needed to graduate from high school college- and career-ready. Within these geographic areas, Promise Neighborhoods create a high level of participation in cradle-through-college-to-career supports for children and youth, where over time a greater proportion of the neighborhood is served by programs and neighborhood indicators show significant progress. For this reason, each Promise Neighborhood grantee must have several core features: (1) Significant need in the neighborhood the grant serves; (2) a strategy to build a continuum of solutions with strong schools at the center; and (3) the capacity to achieve results. As the proportion of neighborhood children, students, and families accessing services and attending great schools increases, the entire neighborhood will be positively affected.

While there are a number of organizations and communities that are working on developing Promise Neighborhoods strategies, these entities are at different stages of readiness to create a Promise Neighborhood. Therefore, we have established priorities, requirements, definitions, and selection criteria for both planning and implementation grants in a notice of final priorities, requirements, definitions, and selection criteria published elsewhere in this issue of the Federal Register. The priorities, requirements, and selection criteria are different for planning grant and implementation grant applicants, while the definitions apply to both groups of applicants. This notice invites applications for planning grants. Elsewhere in this issue of the Federal Register, we have published a notice inviting applications for FY 2011 for implementation grants.

Planning grants will support eligible organizations that need to develop feasible plans to create a continuum of solutions with the potential to significantly improve the educational and developmental outcomes of children and youth in a neighborhood. These grants will support eligible organizations that demonstrate the need for creating a Promise Neighborhood in the geographic areas they are targeting, a sound strategy for developing a feasible plan to create a continuum of solutions, and the capacity to develop the plan.

Under Absolute Priority 1 for planning grants, Promise Neighborhoods planning grantees generally must undertake the following activities during the planning year (the complete and exact requirements of the priority are specified elsewhere in the notice):

(1) Conduct a comprehensive needs assessment and segmentation analysis (as defined in this notice) of children and youth in the neighborhood.

(2) Develop a plan to deliver a continuum of solutions with the potential to drive results. This includes building community support for and involvement in the development of the plan.

(3) Establish effective partnerships both to provide solutions along the continuum and to commit resources to sustain and scale up what works.

(4) Plan, build, adapt, or expand a longitudinal data system that will provide information that the grantee will use for learning, continuous improvement, and accountability.

(5) Participate in a community of practice (as defined in this notice).

Implementation grants will support eligible organizations in carrying out their plans to create a continuum of solutions that will significantly improve the educational and developmental outcomes of children and youth in the target neighborhood. These grants will aid eligible organizations that have developed a plan that demonstrates the need for the creation of a Promise Neighborhood in the geographic area they are targeting, a sound strategy for implementing a plan to create a continuum of solutions, and the capacity to implement the plan. More specifically, grantees will use implementation grant funds to develop the administrative capacity necessary to successfully implement a continuum of solutions, such as managing partnerships, integrating multiple funding sources, and supporting the grantee's longitudinal data system. While implementation grantees will be best positioned to determine the allocation of grant funds given the results of their needs assessments and plans to build their organizational capacity, the Department expects that the majority of resources to provide solutions within the continuum of solutions will come from public and private funding sources that are integrated and aligned with the Promise Neighborhoods strategy.

Under Absolute Priority 1 for implementation grants, Promise Neighborhoods implementation grantees generally will undertake the following activities during the implementation years (the complete and exact requirements of the priority are specified elsewhere in the notice):

(1) Implement a continuum of solutions that addresses neighborhood challenges, as identified through a needs assessment and segmentation analysis, and that will improve results for children and youth in the neighborhood.

(2) Continue to build and strengthen partnerships that will provide solutions along the continuum of solutions and that will commit resources to sustain and scale up what works.

(3) Collect data on indicators at least annually, and use and improve a longitudinal data system for learning, continuous improvement, and accountability.

(4) Demonstrate progress on goals for improving systems, such as by making changes in policies and organizations, and by leveraging resources to sustain and scale up what works.

(5) Participate in a community of practice (as defined in this notice).

Considering the time and urgency required to dramatically improve outcomes of children and youth in our most distressed neighborhoods and to transform those neighborhoods, implementation grantees will establish both short- and long-term goals to define success.

Consistent with the approach of the Promise Neighborhoods program, we believe that it is important for communities to develop a comprehensive neighborhood revitalization strategy that addresses neighborhood assets (as defined in this notice) that are essential to transforming distressed neighborhoods into healthy and vibrant communities of opportunity. Although not a proposed requirement for planning or implementation applicants, we believe that a Promise Neighborhood will be most successful when it is part of, and contributing to, an area's broader neighborhood revitalization strategy. We believe that only through the development of such comprehensive neighborhood revitalization plans that embrace the coordinated use of programs and resources in order to effectively address the interrelated needs within a community will the broader vision of neighborhood transformation occur.

Because a diverse group of communities could benefit from Promise Neighborhoods, the Secretary has established an absolute priority for applicants that propose to serve one or more rural communities only (as defined in this notice) and an absolute priority for applicants that propose to serve one or more Indian Tribes (as defined in this notice).

Note: In developing their strategies for planning or implementing a continuum of solutions, applicants should be mindful of the importance of ensuring that all children, including infants and toddlers in the neighborhood, have an opportunity to benefit. For example, individuals with disabilities and language minorities, particularly recent immigrants, may encounter unique challenges that prevent them from accessing the benefits of a Promise Neighborhoods project.

Successful applicants under this competition must comply with Federal civil rights laws that apply to recipients and subrecipients of Federal financial assistance including: Title VI of the Civil Rights Act of 1964 (prohibiting discrimination on the basis of race, color, or national origin); Section 504 of the Rehabilitation Act of 1973 and Title II of the Americans with Disabilities Act (prohibiting discrimination on the basis of disability); Title IX of the Education Amendments of 1972 (prohibiting discrimination on the basis of sex); and the Age Discrimination Act of 1975 (prohibiting discrimination on the basis of age).

Applicants, therefore, in designing their projects and preparing their required General Education Provisions Act (GEPA) Section 427 assurance, will need to address barriers to participation for individuals, including individuals with disabilities and limited English proficiency, and must consider the steps they will take to ensure equitable participation of all children and families in the project, in compliance with civil rights obligations. (Section 427 requires each applicant to include in its application a description of the steps the applicant proposes to take to ensure equitable access to, and participation in, its federally-assisted program for students, teachers and other program beneficiaries with special needs.)

Priorities: This competition includes three absolute priorities, four competitive preference priorities, and one invitational priority that are explained in the following paragraphs. These priorities are from the 2011 Promise Neighborhoods NFP, published elsewhere in this issue of the Federal Register.

Absolute Priorities: For FY 2011 and any subsequent year in which we make awards from the list of unfunded applicants from this competition, these priorities are absolute priorities. Under 34 CFR 75.105(c)(3) we consider only applications that meet one or more of these priorities.

Note: Applicants must indicate in their application whether they are applying under Planning Grant Priority 1 (Absolute), Planning Grant Priority 2 (Absolute), or Planning Grant Priority 3 (Absolute). An applicant that applies under Planning Grant Priority 2 (Absolute) but is not eligible for funding under Planning Grant Priority 2 (Absolute), or applies under Planning Grant Priority 3 (Absolute) but is not eligible for funding under Planning Grant Priority 3 (Absolute), may be considered for funding under Planning Grant Priority 1 (Absolute).

These priorities are:

Planning Grant Priority 1 (Absolute) Proposal To Develop a Promise Neighborhood Plan

To meet this priority, an applicant must submit a proposal for how it will plan to create a Promise Neighborhood. This proposal must describe the need in the neighborhood, a strategy to build a continuum of solutions, and the applicant's capacity to achieve results. Specifically, an applicant must—

(1) Describe the geographically defined area ³ (neighborhood) to be served and the level of distress in that area based on indicators of need and other relevant indicators. Applicants may propose to serve multiple, non-contiguous geographically defined areas. In cases where target areas are not contiguous, the applicant must explain its rationale for including non-contiguous areas;

³ For the purposes of this notice, the Department uses the terms “geographic area” and “neighborhood” interchangeably.

(2) Describe how it will plan to build a continuum of solutions based on the best available evidence including, where available, strong or moderate evidence (as defined in this notice) designed to significantly improve educational outcomes and to support the healthy development and well-being of children and youth in the neighborhood. The applicant must also describe how it will build community support for and involvement in the development of the plan. The plan must be designed to ensure that over time, children and youth in the neighborhood who attend the target school or schools have access to a complete continuum of solutions, and ensure, as appropriate, that children and youth in the neighborhood who do not attend the target school or schools have access to solutions within the continuum of solutions. The plan must also ensure that students not living in the neighborhood who attend the target school or schools have access to solutions within the continuum of solutions.

The success of the applicant's strategy to build a continuum of solutions will be based on the results of the project, as measured against the project indicators defined in this notice and described in Table 1 and Table 2. In its strategy, the applicant must describe how it will determine which solutions within the continuum of solutions to implement, and must include—

(a) High-quality early learning programs and services designed to improve outcomes across multiple domains of early learning (as defined in this notice) for children from birth through third grade;

(b) Ambitious, rigorous, and comprehensive education reforms that are linked to improved educational outcomes for children and youth in preschool through the 12th grade. Public schools served through the grant may include persistently lowest-achieving schools (as defined in this notice) or low-performing schools (as defined in this notice) that are not also persistently lowest-achieving schools. An applicant (or one or more of its partners) may serve an effective school or schools (as defined in this notice) but only if the applicant (or one or more of its partners) also serves at least one low-performing school (as defined in this notice) or persistently lowest-achieving school (as defined in this notice). An applicant must identify in its application the public school or schools that would be served and the current status of reforms in the school or schools, including, if applicable, the type of intervention model being implemented. In cases where an applicant operates a school or partners with a school that does not serve all students in the neighborhood, the applicant must partner with at least one additional school or schools that also serves students in the neighborhood. An applicant proposing to work with a persistently lowest-achieving school must include as part of its strategy one of the four school intervention models (turnaround model, restart model, school closure, or transformation model) described in Appendix C of the Race to the Top (RTT) notice inviting applications for new awards for FY 2010 that was published in the Federal Register on November 18, 2009 (74 FR 59836, 59866).

An applicant proposing to work with a low-performing school must include, as part of its strategy, ambitious, rigorous, and comprehensive interventions to assist, augment, or replace schools, which may include implementing one of the four school intervention models, or may include another model of sufficient ambition, rigor, and comprehensiveness to significantly improve academic and other outcomes for students. An applicant proposing to work with a low-performing school must include an intervention that addresses the effectiveness of teachers and leaders and the school's use of time and resources, which may include increased learning time (as defined in this notice);

Note regarding school reform strategies: So as not to penalize an applicant for proposing to work with an LEA that has implemented rigorous reform strategies prior to the publication of this notice, an applicant is not required to propose a new reform strategy in place of an existing reform strategy in order to be eligible for a Promise Neighborhoods planning grant. For example, an LEA might have begun to implement improvement activities that meet many, but not all, of the elements of a transformation model of school intervention. In this case, the applicant could propose, as part of its Promise Neighborhood strategy, to work with the LEA as the LEA continues with its reforms.

(c) Programs that prepare students to be college- and career-ready; and

(d) Family and community supports (as defined in this notice).

To the extent feasible and appropriate, the applicant must describe, in its plan, how the applicant and its partners will leverage and integrate high-quality programs, related public and private investments, and existing neighborhood assets into the continuum of solutions.

An applicant must also describe in its plan how it will identify Federal, State, or local policies, regulations, or other requirements that would impede its ability to achieve its goals and how it will report on those impediments to the Department and other relevant agencies.

As part of the description of how it will plan to build a continuum of solutions, the applicant must describe how it will participate in, organize, or facilitate, as appropriate, communities of practice (as defined in this notice) for Promise Neighborhoods.

(3) Specify how it will conduct a comprehensive needs assessment and segmentation analysis of children and youth in the neighborhood during the planning grant project period and explain how it will use this needs assessment and segmentation analysis to determine the children with the highest needs and ensure that those children receive the appropriate services from the continuum of solutions. In this explanation of how it will use the needs assessment and segmentation analysis, the applicant must identify and describe in the application both the educational indicators and the family and community support indicators that the applicant will use in conducting the needs assessment during the planning year. During the planning year, the applicant must—

(a) Collect data for the educational indicators listed in Table 1 and use them as both program and project indicators;

(b) Collect data for the family and community support indicators in Table 2 and use them as program indicators; and

(c) Collect data for unique family and community support indicators, developed by the applicant, that align with the goals and objectives of projects and use them as project indicators or use the indicators in Table 2 as project indicators.

Note: Planning grant applicants are not required to propose solutions in their applications; however, they are required to describe how they will identify solutions, including the use of available evidence, during the planning year that will result in improvements on the project indicators.

Table 1—Education Indicators and Results They Are Intended To Measure
Indicator | Result
— # and % of children birth to kindergarten entry who have a place where they usually go, other than an emergency room, when they are sick or in need of advice about their health | Children enter kindergarten ready to succeed in school.
— # and % of three-year-olds and children in kindergarten who demonstrate at the beginning of the program or school year age-appropriate functioning across multiple domains of early learning (as defined in this notice) as determined using developmentally appropriate early learning measures (as defined in this notice)
— # & % of children, from birth to kindergarten entry, participating in center-based or formal home-based early learning settings or programs, which may include Early Head Start, Head Start, child care, or preschool
— # & % of students at or above grade level according to State mathematics and reading or language arts assessments in at least the grades required by the ESEA (3rd through 8th and once in high school) | Students are proficient in core academic subjects.
— Attendance rate of students in 6th, 7th, 8th, and 9th grade | Students successfully transition from middle school grades to high school.
— Graduation rate (as defined in this notice) | Youth graduate from high school.
— # & % of Promise Neighborhood students who graduate with a regular high school diploma, as defined in 34 CFR 200.19(b)(1)(iv), and obtain postsecondary degrees, vocational certificates, or other industry-recognized certifications or credentials without the need for remediation | High school graduates obtain a postsecondary degree, certification, or credential.

Table 2—Family and Community Support Indicators and Results They Are Intended To Measure
Indicator | Result
— # & % of children who participate in at least 60 minutes of moderate to vigorous physical activity daily; and | Students are healthy.
— # & % of children who consume five or more servings of fruits and vegetables daily; or
— possible third indicator, to be determined (TBD) by applicant
— # & % of students who feel safe at school and traveling to and from school, as measured by a school climate needs assessment (as defined in this notice); or | Students feel safe at school and in their community.
— possible second indicator, TBD by applicant
— Student mobility rate (as defined in this notice); or | Students live in stable communities.
— possible second indicator, TBD by applicant
— For children birth to kindergarten entry, the # and % of parents or family members who report that they read to their child three or more times a week; | Families and community members support learning in Promise Neighborhood schools.
— For children in kindergarten through the eighth grade, the # and % of parents or family members who report encouraging their child to read books outside of school; and
— For children in the ninth through twelfth grades, the # and % of parents or family members who report talking with their child about the importance of college and career; or
— possible fourth indicator TBD by applicant. For children in the ninth through twelfth grades, the # and % of parents or family members who report talking with their child about the importance of college and career; or
— possible fourth indicator TBD by applicant
— # & % of students who have school and home access (and % of the day they have access) to broadband internet (as defined in this notice) and a connected computing device; or | Students have access to 21st century learning tools.
— possible second indicator TBD by applicant

Note: The indicators in Table 1 and Table 2 are not intended to limit an applicant from collecting and using data for additional indicators. Examples of additional indicators are—

(i) The # and % of children who participate in high-quality learning activities during out-of-school hours or in the hours after the traditional school day ends;

(ii) The # and % of children who are suspended or receive discipline referrals during the school year;

(iii) The share of housing stock in the geographically defined area that is rent-protected, publicly assisted, or targeted for redevelopment with local, State, or Federal funds; and

(iv) The # and % of children who are homeless or in foster care and who have an assigned adult advocate.

Note: While the Department believes there are many programmatic benefits of collecting data on every child in the proposed neighborhood, the Department will consider requests to collect data on only a sample of the children in the neighborhood for some indicators so long as the applicant describes in its application how it would ensure the sample would be representative of the children in the neighborhood.

(4) Describe the experience and lessons learned, and describe how the applicant will build the capacity of its management team and project director in all of the following areas:

(a) Working with the neighborhood and its residents, including parents and families that have children or other family members with disabilities or ELs, as well as with the school(s) described in paragraph (2) of this priority; the LEA in which the school or schools are located; Federal, State, and local government leaders; and other service providers.

(b) Collecting, analyzing, and using data for decision-making, learning, continuous improvement, and accountability. The applicant must describe—

(i) Its proposal to plan to build, adapt, or expand a longitudinal data system that integrates student-level data from multiple sources in order to measure progress on educational and family and community support indicators for all children in the neighborhood, disaggregated by the subgroups listed in section 1111(b)(3)(C)(xiii) of the ESEA;

(ii) How the applicant will link the longitudinal data system to school-based, LEA, and State data systems; make the data accessible to parents, families, community residents, program partners, researchers, and evaluators while abiding by Federal, State, and other privacy laws and requirements; and manage and maintain the system;

(iii) How the applicant will use rapid-time (as defined in this notice) data both in the planning year and, once the Promise Neighborhood strategy is implemented, for continuous program improvement; and

(iv) How the applicant will document the planning process, including by describing lessons learned and best practices;

(c) Creating formal and informal partnerships, for such purposes as providing solutions along the continuum of solutions and attaining resources to sustain and scale up what works. An applicant, as part of its application, must submit a preliminary memorandum of understanding, signed by each organization or agency with which it would partner in planning the proposed Promise Neighborhood. The preliminary memorandum of understanding must describe—

(i) Each partner's financial and programmatic commitment; and

(ii) How each partner's existing vision, theory of change (as defined in this notice), theory of action (as defined in this notice), and existing activities align with those of the proposed Promise Neighborhood strategy;

(d) The governance structure proposed for the Promise Neighborhood, including a system for holding partners accountable, how the eligible entity's governing board or advisory board is representative of the geographic area proposed to be served (as defined in this notice), and how residents of the geographic area would have an active role in the organization's decision-making; and

(e) Securing and integrating funding streams from multiple public and private sources from the Federal, State, and local level. Examples of public funds include Federal resources from the U.S. Department of Education, such as the 21st Century Community Learning Centers program and title I of the ESEA, and from other Federal agencies, such as the U.S. Departments of Health and Human Services, Housing and Urban Development, Justice, Labor, and Treasury.

(5) Describe the applicant's commitment to work with the Department, and with a national evaluator for Promise Neighborhoods or another entity designated by the Department, to ensure that data collection and program design are consistent with plans to conduct a rigorous national evaluation of the Promise Neighborhoods program and of specific solutions and strategies pursued by individual grantees. This commitment must include, but need not be limited to—

(a) Ensuring that, through memoranda of understanding with appropriate entities, the national evaluator and the Department have access to relevant program and project data (e.g., administrative data and program and project indicator data), including data on a quarterly basis if requested by the Department;

(b) Developing, in consultation with the national evaluator, an evaluation strategy, including identifying a credible comparison group; and

(c) Developing, in consultation with the national evaluator, a plan for identifying and collecting reliable and valid baseline data for both program participants and a designated comparison group of non-participants.

Planning Grant Priority 2 (Absolute) Promise Neighborhoods in Rural Communities

To meet this priority, an applicant must propose to develop a plan for implementing a Promise Neighborhood strategy that (1) Meets all of the requirements in Absolute Priority 1; and (2) proposes to serve one or more rural communities only.

Planning Grant Priority 3 (Absolute) Promise Neighborhoods in Tribal Communities

To meet this priority, an applicant must propose to develop a plan for implementing a Promise Neighborhood strategy that (1) Meets all of the requirements in Absolute Priority 1; and (2) proposes to serve one or more Indian tribes (as defined in this notice).

Competitive Preference Priorities: For FY 2011, these priorities are competitive preference priorities. Under 34 CFR 75.105(c)(2)(i) we award additional points to an application depending on how well the application meets Planning Grant Priorities 4, 5, 6, or 7 (Competitive Preference). Applicants may address more than one of the competitive preference priorities; however, the Department will review and award points only for a maximum of two of the competitive preference priorities. Therefore, an applicant must identify in the project narrative section of its application the priority or the two priorities it wishes the Department to consider for purposes of earning the competitive preference priority points.

Note: The Department will not review or award points under any competitive preference priority for an application that (1) fails to clearly identify the competitive preference priority or two priorities it wishes the Department to consider for purposes of earning the competitive preference priority points, or (2) identifies more than two competitive preference priorities.

These priorities are:

Planning Grant Priority 4 (Competitive Preference) Comprehensive Local Early Learning Network (Zero, One, or Two Points)

To meet this priority, an applicant must propose to develop a plan to expand, enhance, or modify an existing network of early learning programs and services to ensure that they are high-quality and comprehensive for children from birth through the third grade. The plan must also ensure that the network establishes a high standard of quality across early learning settings and is designed to improve outcomes across multiple domains of early learning. Distinct from the early learning solutions described in paragraph (2) of Absolute Priority 1, this priority supports proposals to develop plans that integrate various early learning services and programs in the neighborhood in order to enhance the quality of such services and programs, i.e., school-based early learning programs; locally- or State-funded preschool programs; Early Head Start and Head Start; the local child care resource and referral agency, if applicable; Individuals with Disabilities Education Act (IDEA) services and programs; services through private providers; home visiting programs; public and private child care providers that are licensed by the State, including public and private providers and center-based care; and family, friend, or neighbor care in the Promise Neighborhood.

The local early learning network must address or incorporate ongoing State-level efforts regarding the major components of high-quality early learning programs and services, such as State early learning and development standards, program quality standards, comprehensive assessment systems, workforce and professional development systems, health promotion, family and community engagement, a coordinated data infrastructure, and a method of measuring, monitoring, evaluating, and improving program quality. For example, an applicant might address how the Promise Neighborhoods project will use the State's early learning standards, as applicable, and the Head Start Child Development and Early Learning Framework (Framework), as applicable, to define the expectations of what children should know and be able to do before entering kindergarten. The Framework is available on the Office of Head Start's Web site at: http://eclkc.ohs.acf.hhs.gov/hslc/ecdh/eecd/Assessment/Child%20Outcomes/HS_Revised_Child_Outcomes_Framework.pdf. Similarly, an applicant that addresses this priority must discuss, where applicable, how it would align with the State's Quality Rating and Improvement System (QRIS), as applicable, professional development and workforce infrastructure, and other appropriate State efforts. In addition, the proposal must describe how the project will provide, to the extent practicable, early learning opportunities on multiple platforms (e.g., public television, web-based) and in multiple locations (e.g., at home, at school, and at other community locations.)

Note regarding accessibility of early learning programs and services: These early learning opportunities must be fully accessible to individuals with disabilities, including individuals who are blind or have low vision; otherwise, the plans must describe how accommodations or modifications will be provided to ensure that the benefits of the early learning opportunities are provided to children and youth with disabilities in an equally effective and equally integrated manner.

The proposal to develop a plan for a high-quality and comprehensive local early learning network must describe the governance structure and how the applicant will use the planning year to plan solutions that address the major components of high-quality early learning programs and services as well as establish goals, strategies, and benchmarks to provide early learning programs and services that result in improved outcomes across multiple domains of early learning (as defined in this notice). An applicant addressing this priority must designate an individual responsible for overseeing and integrating the early learning initiatives and must include a resume or position description and other supporting documentation to demonstrate that the individual designated, or individual hired to carry out those responsibilities, possesses the appropriate State certification, and has experience and expertise in managing and administering high-quality early learning programs, including in coordinating across various high-quality early learning programs and services.

Planning Grant Priority 5 (Competitive Preference) Quality Internet Connectivity (Zero or One Point)

To meet this priority, an applicant must propose to develop a plan to ensure that almost all students in the geographic area proposed to be served have broadband internet access (as defined in this notice) at home and at school, the knowledge and skills to use broadband internet access effectively, and a connected computing device to support schoolwork.

Planning Grant Priority 6 (Competitive Preference) Arts and Humanities (Zero or One Point)

To meet this priority, an applicant must propose to develop a plan to include opportunities for children and youth to experience and participate actively in the arts and humanities in their community so as to broaden, enrich, and enliven the educational, cultural, and civic experiences available in the neighborhood. Applicants may propose to develop plans for offering these activities in school and in out-of-school settings and at any time during the calendar year.

Planning Grant Priority 7 (Competitive Preference) Quality Affordable Housing (Zero or One Point)

To meet this priority, an applicant must propose to serve geographic areas that were the subject of an affordable housing transformation pursuant to a Choice Neighborhoods or HOPE VI grant awarded by the U.S. Department of Housing and Urban Development during FY 2009 or later years. To be eligible under this priority, the applicant must either (1) be able to demonstrate that it has received a Choice Neighborhoods or HOPE VI grant or (2) provide, in its application, a memorandum of understanding between it and a partner that is a recipient of Choice Neighborhoods or HOPE VI grant. The memorandum must indicate a commitment on the part of the applicant and partner to coordinate planning and align resources to the greatest extent practicable.

Invitational Priority: For FY 2011, this priority is an invitational priority. Under 34 CFR 75.105(c)(1) we do not give an application that meets this invitational priority a competitive or absolute preference over other applications.

This priority is:

Planning Grant Priority 8 (Invitational) Family Engagement in Learning Through Adult Education

To meet this priority, an applicant must propose to develop a plan that is coordinated with adult education providers serving neighborhood residents, such as those funded through the Adult Education and Family Literacy Act, as amended. Coordinated services may include adult basic and secondary education and programs that provide training and opportunities for family members and other members of the community to support student learning and establish high expectations for student educational achievement. Examples of services and programs include preparation for the General Education Development (GED) test; English literacy, family literacy, and work-based literacy training; or other training that prepares adults for postsecondary education and careers or supports adult engagement in the educational success of children and youth in the neighborhood.

Definitions

The following definitions apply to this program:

Broadband internet access means internet access sufficient to provide community members with the internet available when and where they need it and for the uses they require.

Children with disabilities or CWD means individuals who meet the definition of child with a disability in 34 CFR 300.8, infant or toddler with a disability in 34 CFR 300.25, handicapped person in 34 CFR 104.3(j), or disability as it pertains to an individual in 42 U.S.C. § 12102.

Community of practice means a group of grantees that agrees to interact regularly to solve a persistent problem or improve practice in an area that is important to them and the success of their projects. Establishment of communities of practice under Promise Neighborhoods will enable grantees to meet, discuss, and collaborate with each other regarding grantee projects.

Continuum of cradle-through-college-to-career solutions or continuum of solutions means solutions that—

(1) Include programs, policies, practices, services, systems, and supports that result in improving educational and developmental outcomes for children from cradle through college to career;

(2) Are based on the best available evidence, including, where available, strong or moderate evidence (as defined in this notice);

(3) Are linked and integrated seamlessly (as defined in this notice); and

(4) Include both education programs and family and community supports.

Credible comparison group includes a comparison group formed by matching project participants with non-participants based on key characteristics that are thought to be related to outcomes. These characteristics include, but are not limited to: (1) Prior test scores and other measures of academic achievement (preferably the same measures that will be used to assess the outcomes of the project); (2) demographic characteristics, such as age, disability, gender, English proficiency, ethnicity, poverty level, parents' educational attainment, and single- or two-parent family background; (3) the time period in which the two groups are studied (e.g., the two groups are children entering kindergarten in the same year as opposed to sequential years); and (4) methods used to collect outcome data (e.g., the same test of reading skills administered in the same way to both groups).

Developmentally appropriate early learning measures means a range of assessment instruments that are used in ways consistent with the purposes for which they were designed and validated; appropriate for the ages and other characteristics of the children being assessed; designed and validated for use with children whose ages, cultures, languages spoken at home, socioeconomic status, abilities and disabilities, and other characteristics are similar to those of the children with whom the assessments will be used; and used in compliance with the measurement standards set forth by the American Educational Research Association (AERA), the American Psychological Association (APA), and the National Council for Measurement in Education (NCME) in the 1999 Standards for Educational and Psychological Testing.

Education programs means programs that include, but are not limited to—

(1) High-quality early learning programs or services designed to improve outcomes across multiple domains of early learning for young children. Such programs must be specifically intended to align with appropriate State early learning and development standards, practices, strategies, or activities across as broad an age range as birth through third grade so as to ensure that young children enter kindergarten and progress through the early elementary school grades demonstrating age-appropriate functioning across the multiple domains;

(2) For children in preschool through the 12th grade, programs, inclusive of related policies and personnel, that are linked to improved educational outcomes. The programs—

(a) Must include effective teachers and effective principals;

(b) Must include strategies, practices, or programs that encourage and facilitate the evaluation, analysis, and use of student achievement, student growth (as defined in this notice), and other data by educators, families, and other stakeholders to inform decision-making;

(c) Must include college- and career-ready standards, assessments, and practices, including a well-rounded curriculum, instructional practices, strategies, or programs in, at a minimum, core academic subjects as defined in section 9101(11) of the ESEA, that are aligned with high academic content and achievement standards and with high-quality assessments based on those standards; and

(d) May include creating multiple pathways for students to earn regular high school diplomas (e.g., using schools that serve the needs of over-aged, under-credited, or other students with an exceptional need for flexibility regarding when they attend school or the additional supports they require; awarding credit based on demonstrated evidence of student competency; or offering dual-enrollment options); and

(3) Programs that prepare students for college and career success, which may include programs that—

(a) Create and support partnerships with community colleges, four-year colleges, or universities and that help instill a college-going culture in the neighborhood;

(b) Provide dual-enrollment opportunities for secondary students to gain college credit while in high school;

(c) Provide, through relationships with businesses and other organizations, apprenticeship opportunities to students;

(d) Align curricula in the core academic subjects with requirements for industry-recognized certifications or credentials, particularly in high-growth sectors;

(e) Provide access to career and technical education programs so that individuals can attain the skills and industry-recognized certifications or credentials for success in their careers;

(f) Help college students, including CWD and ELs from the neighborhood to transition to college, persist in their academic studies in college, graduate from college, and transition into the workforce; and

(g) Provide opportunities for all youth (both in and out of school) to achieve academic and employment success by improving educational and skill competencies and providing connections to employers. Such activities may include opportunities for on-going mentoring, supportive services, incentives for recognition and achievement, and opportunities related to leadership, development, decision-making, citizenship, and community service.

Effective school means a school that has—

(1) Significantly closed the achievement gaps between subgroups of students (as identified in section 1111(b)(3)(C)(xiii) of the ESEA) within the school or district; or

(2)(a) Demonstrated success in significantly increasing student academic achievement in the school for all subgroups of students (as identified in section 1111(b)(3)(C)(xiii) of the ESEA) in the school; and (b) made significant improvements in other areas, such as graduation rates (as defined in this notice) or recruitment and placement of effective teachers and effective principals.

Eligible organization means an organization that—

(1) Is representative of the geographic area proposed to be served (as defined in this notice);

(2) Is one of the following:

(a) A nonprofit organization that meets the definition of a nonprofit under 34 CFR 77.1(c), which may include a faith-based nonprofit organization.

(b) An institution of higher education as defined by section 101(a) of the Higher Education Act of 1965, as amended.

(c) An Indian tribe (as defined in this notice);

(3) Currently provides at least one of the solutions from the applicant's proposed continuum of solutions in the geographic area proposed to be served; and

(4) Operates or proposes to work with and involve in carrying out its proposed project, in coordination with the school's LEA, at least one public elementary or secondary school that is located within the identified geographic area that the grant will serve.

English learners or ELs means individuals who meet the definition of limited English proficient, as defined in section 9101(25) of the ESEA.

Family and community supports means—

(1) Child and youth health programs, such as physical, mental, behavioral, and emotional health programs (e.g., home visiting programs; Early Head Start; programs to improve nutrition and fitness, reduce childhood obesity, and create healthier communities);

(2) Safety programs, such as programs in school and out of school to prevent, control, and reduce crime, violence, drug and alcohol use, and gang activity; programs that address classroom and school-wide behavior and conduct; programs to prevent child abuse and neglect; programs to prevent truancy and reduce and prevent bullying and harassment; and programs to improve the physical and emotional security of the school setting as perceived, experienced, and created by students, staff, and families;

(3) Community stability programs, such as programs that—

(a) Increase the stability of families in communities by expanding access to quality, affordable housing, providing legal support to help families secure clear legal title to their homes, and providing housing counseling or housing placement services;

(b) Provide adult education and employment opportunities and training to improve educational levels, job skills and readiness in order to decrease unemployment, with a goal of increasing family stability;

(c) Improve families' awareness of, access to, and use of a range of social services, if possible at a single location;

(d) Provide unbiased, outcome-focused, and comprehensive financial education, inside and outside the classroom and at every life stage;

(e) Increase access to traditional financial institutions (e.g., banks and credit unions) rather than alternative financial institutions (e.g., check cashers and payday lenders);

(f) Help families increase their financial literacy, financial assets, and savings; and

(g) Help families access transportation to education and employment opportunities;

(4) Family and community engagement programs that are systemic, integrated, sustainable, and continue through a student's transition from K-12 school to college and career. These programs may include family literacy programs and programs that provide adult education and training and opportunities for family members and other members of the community to support student learning and establish high expectations for student educational achievement; mentorship programs that create positive relationships between children and adults; programs that provide for the use of such community resources as libraries, museums, television and radio stations, and local businesses to support improved student educational outcomes; programs that support the engagement of families in early learning programs and services; programs that provide guidance on how to navigate through a complex school system and how to advocate for more and improved learning opportunities; and programs that promote collaboration with educators and community organizations to improve opportunities for healthy development and learning; and

(5) 21st century learning tools, such as technology (e.g., computers and mobile phones) used by students in the classroom and in the community to support their education. This includes programs that help students use the tools to develop knowledge and skills in such areas as reading and writing, mathematics, research, critical thinking, communication, creativity, innovation, and entrepreneurship.

Graduation rate means the four-year or extended-year adjusted cohort graduation rate as defined by 34 CFR 200.19(b)(1).

Note: This definition is not meant to prevent a grantee from also collecting information about the reasons why students do not graduate from the target high school, e.g., dropping out or moving outside of the school district for non-academic or academic reasons.

Increased learning time means using a longer school day, week, or year to significantly increase the total number of school hours. This strategy is used to redesign the school's program in a manner that includes additional time for (a) instruction in core academic subjects as defined in section 9101(11) of the ESEA; (b) instruction in other subjects and enrichment activities that contribute to a well-rounded education, including, for example, physical education, service learning, and experiential and work-based learning opportunities that are provided by partnering, as appropriate, with other organizations; and (c) teachers to collaborate, plan, and engage in professional development within and across grades and subjects.

Indian tribe means any Indian or Alaska Native tribe, band, nation, pueblo, village or community that the Secretary of the Interior acknowledges to exist as an Indian tribe, 25 U.S.C. 479a and 479a-1 or any Alaska Native village or regional or village corporation as defined in or established pursuant to the Alaska Native Claims Settlement Act, 43 U.S.C. 1601, et seq., that is recognized as eligible for the special programs and services provided by the United States to Indians because of their status as Indians. The term “Indian” means a member of an Indian tribe.

Indicators of need means currently available data that describe—

(1) Education need, which means—

(a) All or a portion of the neighborhood includes or is within the attendance zone of a low-performing school that is a high school, especially one in which the graduation rate (as defined in this notice) is less than 60 percent or a school that can be characterized as low-performing based on another proxy indicator, such as students' on-time progression from grade to grade; and

(b) Other indicators, such as significant achievement gaps between subgroups of students (as identified in section 1111(b)(3)(C)(xiii) of the ESEA) within a school or LEA, high teacher and principal turnover, or high student absenteeism; and

(2) Family and community support need, which means—

(a) Percentages of children with preventable chronic health conditions (e.g., asthma, poor nutrition, dental problems, obesity) or avoidable developmental delays;

(b) Immunization rates;

(c) Rates of crime, including violent crime;

(d) Student mobility rates;

(e) Teenage birth rates;

(f) Percentage of children in single-parent or no-parent families;

(g) Rates of vacant or substandard homes, including distressed public and assisted housing; or

(h) Percentage of the residents living at or below the Federal poverty threshold.

Linked and integrated seamlessly, with respect to the continuum of solutions, means solutions that have common outcomes, focus on similar milestones, support transitional time periods (e.g., the beginning of kindergarten, the middle grades, or graduation from high school) along the cradle-through-college-to-career continuum, and address time and resource gaps that create obstacles for students in making academic progress.

Low-performing schools means schools receiving assistance through title I of the Elementary and Secondary Education Act of 1965, as amended (ESEA), that are in corrective action or restructuring in the State, as determined under section 1116 of the ESEA, and the secondary schools (both middle and high schools) in the State that are equally as low-achieving as these Title I schools and are eligible for, but do not receive, Title I funds.

Moderate evidence means evidence from previous studies with designs that can support causal conclusions (i.e., studies with high internal validity) but have limited generalizability (i.e., moderate external validity) or from studies with high external validity but moderate internal validity.

Multiple domains of early learning means physical well-being and motor development; social-emotional development; approaches toward learning, which refers to the inclinations, dispositions, or styles, rather than skills, that reflect ways that children become involved in learning and develop their inclinations to pursue learning; language and literacy development, including emergent literacy; and cognition and general knowledge, which refers to thinking and problem-solving as well as knowledge about particular objects and the way the world works. Cognition and general knowledge include mathematical and scientific knowledge, abstract thought, and imagination.

Neighborhood assets means—

(1) Developmental assets that allow residents to attain the skills needed to be successful in all aspects of daily life (e.g., educational institutions, early learning centers, and health resources);

(2) Commercial assets that are associated with production, employment, transactions, and sales (e.g., labor force and retail establishments);

(3) Recreational assets that create value in a neighborhood beyond work and education (e.g., parks, open space, community gardens, and arts organizations);

(4) Physical assets that are associated with the built environment and physical infrastructure (e.g., housing, commercial buildings, and roads); and

(5) Social assets that establish well-functioning social interactions (e.g., public safety, community engagement, and partnerships with youth, parents, and families).

Persistently lowest-achieving school means, as determined by the State—

(1) Any school receiving assistance through Title I that is in improvement, corrective action, or restructuring and that—

(a) Is among the lowest-achieving five percent of Title I schools in improvement, corrective action, or restructuring or the lowest-achieving five Title I schools in improvement, corrective action, or restructuring in the State, whichever number of schools is greater; or

(b) Is a high school that has had a graduation rate that is less than 60 percent over a number of years; and

(2) Any secondary school that is eligible for, but does not receive, Title I funds that—

(a) Is among the lowest-achieving five percent of secondary schools or the lowest-achieving five secondary schools in the State that are eligible for, but do not receive, Title I funds, whichever number of schools is greater; or

(b) Is a high school that has had a graduation rate that is less than 60 percent over a number of years.

Program indicators are indicators that the Department will use only for research and evaluation purposes and for which an applicant is not required to propose solutions.

Project indicators are indicators for which an applicant proposes solutions intended to result in progress on the indicators.

Public officials means elected officials (e.g., council members, aldermen and women, commissioners, State legislators, Congressional representatives, members of the school board), appointed officials (e.g., members of a planning or zoning commission, or of any other regulatory or advisory board or commission), or individuals who are not necessarily public officials, but who have been appointed by a public official to serve on the Promise Neighborhoods governing board or advisory board.

Rapid-time, in reference to reporting and availability of locally-collected data, means that data are available quickly enough to inform current lessons, instruction, and related education programs and family and community supports.

Representative of the geographic area proposed to be served means that residents of the geographic area proposed to be served have an active role in decision-making and that at least one-third of the eligible entity's governing board or advisory board is made up of—

(1) Residents who live in the geographic area proposed to be served, which may include residents who are representative of the ethnic and racial composition of the neighborhood's residents and the languages they speak;

(2) Residents of the city or county in which the neighborhood is located but who live outside the geographic area proposed to be served, and who are low-income (which means earning less than 80 percent of the area's median income as published by the Department of Housing and Urban Development);

(3) Public officials (as defined in this notice) who serve the geographic area proposed to be served (although not more than one-half of the governing board or advisory board may be made up of public officials); or

(4) Some combination of individuals from the three groups listed in paragraphs (1), (2), and (3) of this definition.

Rural community means a neighborhood that—

(1) Is served by an LEA that is currently eligible under the Small Rural School Achievement (SRSA) program or the Rural and Low-Income School (RLIS) program authorized under Title VI, Part B of the ESEA. Applicants may determine whether a particular LEA is eligible for these programs by referring to information on the following Department Web sites. For the SRSA program: http://www.ed.gov/programs/reapsrsa/eligible10/index.html. For the RLIS program: http://www.ed.gov/programs/reaprlisp/eligible10/index.html; or

(2) Includes only schools designated with a school locale code of 42 or 43. Applicants may determine school locale codes by referring to the following Department Web site: http://nces.ed.gov/ccd/schoolsearch/.

School climate needs assessment means an evaluation tool that measures the extent to which the school setting promotes or inhibits academic performance by collecting perception data from individuals, which could include students, staff, or families.

Segmentation analysis means the process of grouping and analyzing data from children and families in the geographic area proposed to be served according to indicators of need (as defined in this notice) or other relevant indicators.

Note: The analysis is intended to allow grantees to differentiate and more effectively target interventions based on what they learn about the needs of different populations in the geographic area.

Strong evidence means evidence from studies with designs that can support causal conclusions (i.e., studies with high internal validity), and studies that, in total, include enough of the range of participants and settings to support scaling up to the State, regional, or national level (i.e., studies with high external validity).

Student achievement means—

(1) For tested grades and subjects:

(a) A student's score on the State's assessments under the ESEA; and, as appropriate,

(b) Other measures of student learning, such as those described in paragraph (2) of this definition, provided they are rigorous and comparable across classrooms and programs.

(2) For non-tested grades and subjects: alternative measures of student learning and performance, such as student scores on pre-tests and end-of-course tests; student performance on English language proficiency assessments; and other measures of student achievement that are rigorous and comparable across classrooms.

Student growth means the change in achievement data for an individual student between two or more points in time. Growth may also include other measures that are rigorous and comparable across classrooms.

Student mobility rate is calculated by dividing the total number of new student entries and withdrawals at a school, from the day after the first official enrollment number is collected through the end of the academic year, by the first official enrollment number of the academic year.

Note: This definition is not meant to limit a grantee from also collecting information about why students enter or withdraw from the school, e.g., transferring to charter schools, moving outside of the school district for non-academic or academic reasons.

Theory of action means an organization's strategy regarding how, considering its capacity and resources, it will take the necessary steps and measures to accomplish its desired results.

Theory of change means an organization's beliefs about how its inputs, and early and intermediate outcomes, relate to accomplishing its long-term desired results.

Program Authority: 20 U.S.C. 7243-7243b.

Applicable Regulations: (a) The Education Department General Administrative Regulations (EDGAR) in 34 CFR Parts 74, 75, 77, 79, 80, 81, 82, 84, 85, 86, 97, 98, and 99. (b) The notice of final priorities, requirements, definitions, and selection criteria published elsewhere in this issue of the Federal Register.

Note: The regulations in 34 CFR Part 79 apply to all applicants except Federally recognized Indian tribes.

Note: The regulations in 34 CFR Part 86 apply to institutions of higher education only.

II. Award Information

Type of Award: Discretionary grants.

Estimated Available Funds: $5,000,000.

These estimated available funds are only for Planning grants under the Promise Neighborhoods program.

Contingent upon the availability of funds and the quality of the applications received, we may make additional awards in FY 2012 or later years from the list of unfunded applicants from this competition.

Estimated Range of Awards: Planning grants: Up to $500,000.

Estimated Average Size of Awards: Planning grants: $500,000.

Maximum Award: Planning grants: $500,000.

The maximum award amount is $500,000 per 12-month budget period. We may choose not to further consider or review applications with budget requests for any 12-month budget period that exceed this amount, if we conclude, during our initial review of the application, that the proposed goals and objectives cannot be obtained with the specified maximum amount.

Estimated Number of Awards: Planning grants: Up to 10.

Note: The Department is not bound by any estimates in this notice.

Project Period: Planning grants: Up to 12 months.

III. Eligibility Information

1. Eligible Applicants: To be eligible for a grant under this competition, an applicant must be an eligible organization (as defined in this notice). For purposes of Absolute Priority 3: Promise Neighborhoods in Tribal Communities, an eligible applicant is an eligible organization that partners with an Indian tribe or is an Indian tribe that meets the definition of an eligible organization.

2. Cost-Sharing or Matching:

To be eligible for a planning grant under this competition, an applicant must demonstrate that it has established a commitment from one or more entities in the public or private sector, which may include Federal, State, and local public agencies, philanthropic organizations, private businesses, or individuals, to provide matching funds for the planning process. An applicant for a planning grant must obtain matching funds or in-kind donations for the planning process equal to at least 50 percent of its grant award, except that an applicant proposing a project that meets Absolute Priority 2: Promise Neighborhoods in Rural Communities or Absolute Priority 3: Promise Neighborhoods in Tribal Communities must obtain matching funds or in-kind donations equal to at least 25 percent of the grant award.

Both planning and implementation applicants must demonstrate a commitment of matching funds in the applications. The applicants must specify the source of the funds or contributions and in the case of a third-party in-kind contribution, a description of how the value was determined for the donated or contributed goods or service. Applicants must demonstrate the match commitment by including letters in their applications explaining the type and quantity of the match commitment with original signatures from the executives of organizations or agencies providing the match. The Secretary may consider decreasing the matching requirement in the most exceptional circumstances, on a case-by-case basis.

An applicant that is unable to meet the matching requirement must include in its application a request to the Secretary to reduce the matching requirement, including the amount of the requested reduction, the total remaining match contribution, and a statement of the basis for the request. An applicant should review the Department's cost-sharing and cost-matching regulations, which include specific limitations in 34 CFR 74.23 applicable to non-profit organizations and institutions of higher education and 34 CFR 80.24 applicable to State, local, and Indian tribal governments, and the Office of Management and Budget (OMB) cost principles regarding donations, capital assets, depreciations and allowable costs. These circulars are available on OMB's Web site at http://www.whitehouse.gov/omb/circulars/index.html.

3. Other: Funding Categories: An applicant must state in its application whether it is applying for a Planning grant or an Implementation grant. An applicant will be considered for an award only for the type of grant for which it applies.

IV. Application and Submission Information

1. Address to Request Application Package: Ty Harris, U.S. Department of Education, 400 Maryland Avenue, SW., Room 4W250, LBJ, Washington, DC 20202-5970. Telephone: (202) 453-5629 or by e-mail: PN2011faq@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this competition.

Notice of Intent to Apply: July 22, 2011.

We will be able to develop a more efficient process for reviewing grant applications if we know the approximate number of applicants that intend to apply for funding under this competition. Therefore, the Secretary strongly encourages each potential applicant to notify us of the applicant's intent to submit an application for funding by completing a web-based form. When completing this form, applicants will provide (1) The applicant organization's name and address, and (2) the type of grant for which the applicant intends to apply. Applicants may access this form online at http://wdcrobcolp01.ed.gov/CFAPPS/survey/survey.cfm?ID=5c306e04-40e0-4cb3-b6e7-4a8ea1d2012e. Applicants that do not complete this form may still apply for funding.

Page Limit: The application narrative (Part III of the application) is where you, the applicant, address the selection criteria that reviewers use to evaluate your application. You are strongly encouraged to limit the application narrative [Part III] for a planning application to no more than 40 pages, using the following standards:

• A “page” is 8.5″ x 11″, on one side only, with 1″ margins at the top, bottom, and both sides.

• Double space (no more than three lines per vertical inch) all text in the application narrative. Text in charts, tables, figures, and graphs may be single-spaced.

• Use a font that is either 12 point or larger or no smaller than 10 pitch (characters per inch).

• Use one of the following fonts is strongly encouraged: Times New Roman, Courier, Courier New, or Arial.

The suggested page limit does not apply to Part I, the cover sheet; Part II, the budget section, including the narrative budget justification; Part IV, the assurances and certifications; or the one-page abstract, the resumes, the bibliography, or the letters of support. However, the page limit does apply to all of the application narrative section [Part III].

3. Submission Dates and Times:

Applications Available: July 6, 2011.

Deadline for Notice of Intent to Apply: July 22, 2011.

Date of Pre-Application Webinars: Planning Application: July 14, 2011 and August 2, 2011. Implementation Application: July 19, 2011 and July 28, 2011. These pre-application webinars are designed to provide technical assistance to interested applicants for Promise Neighborhoods grants. Detailed information regarding the pre-application webinar times will be available through the Department of Education Web site at http://www2.ed.gov/programs/promiseneighborhoods/index.html.

Deadline for Transmittal of Applications: September 6, 2011.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: November 3, 2011.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) Be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements:

Applications for grants under this competition must be submitted electronically unless you qualify for an exception to this requirement in accordance with the instructions in this section.

a. Electronic Submission of Applications.

Applications for grants under the Promise Neighborhoods Program—CFDA Number 84.215P (Planning grants) must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Promise Neighborhoods Planning Grant Competition at http:/www.Grants.gov. You must search for the downloadable application package for this competition by the CFDA number. Do not include the CFDA number's alpha suffix in your search (e.g., search for 84.215, not 84.215P).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Jane Hodgdon, U.S. Department of Education, 400 Maryland Avenue, SW., Room 4W220, Washington, DC. FAX: (202) 401-4123.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.215P), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA 84.215P), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from the 2011 Promise Neighborhoods NFP and from 34 CFR 75.210. The points assigned to each criterion are indicated in the parenthesis next to the criterion. Applicants may earn up to a total of 100 points. The selection criteria for planning grants are as follows:

A. Need for project (15 points).

The Secretary considers the need for the proposed project.

In determining the need for the proposed project, the Secretary considers—

(1) The magnitude or severity of the problems to be addressed by the proposed project as described by indicators of need and other relevant indicators (10 points); and

(2) The extent to which the geographically defined area has been described (5 points).

B. Quality of the project design (20 points).

The Secretary considers the quality of the design of the proposed project.

In determining the quality of the design of the proposed project, the Secretary considers—

(1) The extent to which the continuum of solutions will be aligned with an ambitious, rigorous, and comprehensive strategy for improvement of schools in the neighborhood (10 points);

(2) The extent to which the applicant describes a proposal to plan to create a complete continuum of solutions, including early learning through grade 12, college- and career-readiness, and family and community supports, without time and resource gaps that will prepare all children in the neighborhood to attain an excellent education and successfully transition to college and a career (5 points); and

(3) The extent to which solutions leverage existing neighborhood assets and coordinate with other efforts, including programs supported by Federal, State, local, and private funds (5 points).

C. Quality of project services (20 points).

The Secretary considers the quality of the services to be provided by the proposed project.

In determining the quality of the project services, the Secretary considers—

(1) The extent to which the applicant describes how the needs assessment and segmentation analysis, including identifying and describing indicators, will be used during the planning phase to determine each solution within the continuum (10 points); and

(2) The extent to which the applicant describes how it will determine that solutions are based on the best available evidence including, where available, strong or moderate evidence, and ensure that solutions drive results and lead to changes on indicators (10 points).

D. Quality of the management plan (45 points).

The Secretary considers the quality of the management plan for the proposed project.

In determining the quality of the management plan for the proposed project, the Secretary considers the experience, lessons learned, and proposal to build capacity of the applicant's management team and project director in all of the following areas—

(1) Working with the neighborhood and its residents; the schools described in paragraph (2)(b) of Absolute Priority 1; the LEA in which those schools are located; Federal, State, and local government leaders; and other service providers (10 points);

(2) Collecting, analyzing, and using data for decision-making, learning, continuous improvement, and accountability (15 points);

(3) Creating formal and informal partnerships, including the alignment of the visions, theories of action, and theories of change described in its memorandum of understanding, and creating a system for holding partners accountable for performance in accordance with the memorandum of understanding (10 points); and

(4) Integrating funding streams from multiple public and private sources, including its proposal to leverage and integrate high-quality programs in the neighborhood into the continuum of solutions (10 points).

2. Review and Selection Process: The Department will screen applications submitted in accordance with the requirements in this notice, and will determine which applications have met eligibility and other statutory requirements.

The Department will use independent reviewers from various backgrounds and professions including: Pre-kindergarten-12 teachers and principals, college and university educators, researchers and evaluators, social entrepreneurs, strategy consultants, grant makers and managers, and others with education expertise. The Department will thoroughly screen all reviewers for conflicts of interest to ensure a fair and competitive review process.

Reviewers will read, prepare a written evaluation, and score the applications assigned to their panel, using the selection criteria provided in this notice.

For applications addressing Absolute Priority 1, Absolute priority 2, and Absolute Priority 3, the Secretary prepares a rank order of applications for each absolute priority based solely on the evaluation of their quality according to the selection criteria. The Department may use more than one tier of reviews in determining grantees. Additional information about the review process will be published on the Department's Web site.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

4. Transparency and Open Government Policy: After awards are made under this competition, all of the submitted successful applications, together with reviewer scores and comments, will be posted on the Department's Web site.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Secretary has established one performance indicator for this program: the percentage of planning grantees that produce a high-quality plan as measured by their receiving at least 90 percent of the total possible points in the competition for FY 2012 implementation grants. All grantees will be required to submit a final performance report documenting their contribution in assisting the Department in measuring the performance of the program against this indicator, as well as other information requested by the Department.

VII. Agency Contact

FOR FURTHER INFORMATION CONTACT: Jane Hodgdon, U.S. Department of Education, 400 Maryland Avenue, SW., room 4W220, Washington, DC 20202-5900. Telephone: (202) 453-6615 or by e-mail: PN2011faq@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 29, 2011.
James H. Shelton, III,
Assistant Deputy Secretary for Innovation and Improvement.

[FR Doc. 2011-16760 Filed 7-5-11; 8:45 am]

BILLING CODE 4000-01-P